DEPARTMENT OF TRANSPORTATION

Federal Aviation Administration

14 CFR Part 39

[Docket No. 2000-NM-257-AD]

RIN 2120-AA64

Airworthiness Directives; Empresa Brasileira de Aeronautica S.A. (EMBRAER) Model EMB-135 and -145 Series Airplanes

AGENCY: Federal Aviation Administration, DOT.

ACTION: Notice of proposed rulemaking (NPRM).

SUMMARY: This document proposes the supersedure of an existing airworthiness directive (AD), applicable to all EMBRAER Model EMB-145 series airplanes, that currently requires repetitive replacement of the bleed-air check valve and associated gaskets on the bleed low-pressure line of the engine, with new parts. This action would continue to require repetitive replacement of the bleed-air check valve and associated gaskets. Additionally, this action would require repetitive replacement of an additional bleed-air check valve with a check valve having the same part number or a new improved check valve; eventual replacement of the bleed-air check valves with new improved check valves and various follow-on actions; and would add airplanes to the applicability of the existing AD. This proposal is prompted by issuance of mandatory continuing airworthiness information by a foreign civil airworthiness authority. The actions specified by the proposed AD are intended to prevent failure of the bleed-air check valve on the bleed low-pressure line of the engine, which could result in engine compressor stall and consequent stall flameout of the affected engine.

DATES: Comments must be received by April 19, 2001.

ADDRESSES: Submit comments in triplicate to the Federal Aviation Administration (FAA), Transport Airplane Directorate, ANM-114, Attention: Rules Docket No. 2000-NM-257-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-257-AD” in the subject line and need not be submitted in triplicate. Comments sent via the Internet as attached electronic files must be formatted in Microsoft Word 97 for Windows or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington, or at the Atlanta Aircraft Certification Office, One Crown Center, 1895 Phones Boulevard, suite 450, Atlanta, Georgia.

FOR FURTHER INFORMATION CONTACT: Robert Capezzuto, Aerospace Engineer, Systems and Flight Test Branch, ACE-116A, FAA, Atlanta Aircraft Certification Office, One Crown Center, 1895 Phoenix Boulevard, suite 450, Atlanta, Georgia 30349; telephone (770) 703-6071; fax (770) 703-6097.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-257-AD.” The postcard will be date stamped and returned to the commenter.

Availability of NPRMs

Any person may obtain a copy of this NPRM by submitting a request to the FAA, Transport Airplane Directorate, ANM-114, Attention: Rules Docket No. 2000-NM-257-AD, 1601 Lind Avenue, SW., Renton, Washington 98055-4056.

Discussion

On May 10, 1999, the FAA issued AD 99-11-01, amendment 39-11172 (64 FR 26835, May 18, 1999), applicable to all EMBRAER Model EMB-145 series airplanes to require repetitive replacement of the bleed-air check valve and associated gaskets on the bleed low-pressure line of the engine, with new parts. That action was prompted by issuance of mandatory continuing airworthiness information by a foreign civil airworthiness authority. The requirements of that AD are intended to prevent failure of the bleed-air check valve on the bleed low-pressure line of the engine. Such failure could result in engine compressor stall and consequent flameout of the affected engine.

Actions Since Issuance of AD 99-11-01

Since the issuance of that AD, the Departmento de Aviacao Civil (DAC), which is the airworthiness authority for Brazil, notified the FAA that an unsafe condition may exist on all EMBRAER Model EMB-145 and EMB-135 series airplanes. The DAC has advised the FAA that premature wearing has been reported of bleed-air check valves on the bleed low-pressure line that were installed in accordance with AD 99-11-01. Failure of the bleed-air check valve on the bleed low-pressure line of the engine could result in engine compressor stall and consequent flameout of the affected engine.

Similar Airplane Models

The bleed-air check valves on EMBRAER Model EMB-145 series airplanes are identical to those installed on EMBRAER Model EMB-135 series airplanes. Therefore, both of these airplane models may be subject to the same unsafe condition.

Explanation of Relevant Service Information

EMBRAER has issued Service Bulletin No. 145-36-0011, Change No. 01, dated March 23, 2000, which describes, among other items, procedures for repetitive replacement of the bleed-air check valves on the bleed low-pressure line with new check valves having the same part numbers. Change No. 01 of the service bulletin also describes procedures for replacement of the check valves with new, improved check valves that would eliminate the need to perform repetitive replacements of the check valves. For airplanes on which the new improved check valves have been installed, Change No. 01 of the service bulletin also describes procedures for replacing the bleed air check valve on the Auxiliary Power Unit (APU) bleed tube assembly, and reworking the flanges of the right-hand engine bleed tube assembly. Additionally, Change No. 01 of the service bulletin adds Model EMB-135 to the effectivity of the service bulletin. Accomplishment of the actions specified in the service bulletin is intended to adequately address the identified unsafe condition. The DAC classified this service bulletin as mandatory and issued Brazilian airworthiness directive 1999-04-01R2, dated May 30, 2000, in order to assure the continued airworthiness of these airplanes in Brazil.

FAA's Conclusions

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Proposed Rule

Since an unsafe condition has been identified that is likely to exist or develop on other airplanes of the same type design registered in the United States, the proposed AD would supersede AD 99-11-01, amendment 39-11172 (64 FR 26835, May 18, 1999). The proposed AD would continue to require repetitive replacement of the bleed-air check valve and associated gaskets on the bleed low-pressure line of the engine, with new parts. The proposed AD would also require repetitive replacement of an additional bleed-air check valve with a check valve having the same part number or a new, improved check valve; eventual replacement of the bleed-air check valves with new, improved check valves; and would add airplanes to the applicability of the existing AD. The actions would be required to be accomplished in accordance with the service bulletin described previously.

Cost Impact

There are approximately 135 airplanes of U.S. registry that would be affected by this proposed AD.

The repetitive replacements that are currently required by AD 99-11-01, and retained in this proposed AD, take approximately 2 work hours per airplane to accomplish, at an average labor rate of $60 per work hour. Based on these figures, the cost impact of the currently required actions on U.S. operators is estimated to be $16,200, or $120 per airplane, per each repetitive replacement.

The new actions that are proposed in this AD action would take approximately 1 work hour per airplane to accomplish, at an average labor rate of $60 per work hour. Based on these figures, the cost impact of the proposed requirements of this AD on U.S. operators is estimated to be $8,100, or $60 per airplane, per repetitive replacement.

The cost impact figures discussed above are based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11172 (64 FR 26835, May 18, 1999), and by adding a new airworthiness directive (AD), to read as follows:

Empresa Brasileira de Aeronautica S.A. (EMBRAER): Docket 2000-NM-257-AD. Supersedes AD 99-11-01, amendment 39-11172.

Applicability: All Model EMB-135 and EMB-145 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent failure of the bleed-air check valve on the bleed low-pressure line of the engine, which could result in engine compressor stall and consequent flameout of the affected engine; accomplish the following:

Restatement of Requirements of AD 99-11-01

(a) For Model EMB-145 series airplanes: Prior to the accumulation of 2,000 total flight hours, or within 100 flight hours after June 2, 1999 (the effective date of AD 99-11-01, amendment 39-11172), whichever occurs later: Replace the bleed-air check valve, having part number (P/N) 816603-1, and associated gaskets, having P/N 24096-250C, on the bleed low-pressure line of the left-and right-hand engines, with new parts having the same P/N's; per EMBRAER Alert Service Bulletin 145-36-A011, dated March 19, 1999. Thereafter, repeat the replacement at intervals not to exceed 2,000 flight hours in accordance with the alert service bulletin.

New Requirements of This AD

Note 2: The replacement interval of 2,000 flight hours specified in paragraph(a) of this AD is required only until the requirements of paragraph (b) of this AD are implemented.

(b) For all airplanes: Replace any bleed-air check valve on the bleed-air low pressure line of the right-hand engine, having either P/N 816603-1 or P/N 816603-2 and associated gaskets having P/N 24096-250C on the bleed low-pressure line of the left- and right-hand engines with a new check valve having the same P/N or with a new, improved check valve having P/N 816603-3 and associated gaskets having P/N 24096-250C, per EMBRAER Service Bulletin 145-36-0011, Change No. 01, dated March 23, 2000; at the later of the times specified in paragraph (b)(1) or (b)(2) of this AD.

(1) Before 1,600 total flight hours or within 1,600 flight hours since the last replacement of the check valve, whichever occurs later; or

(2) Within 200 flight hours after the effective date of this AD.

(c) For all airplanes: If the bleed-air check valves of the right- and left-hand engine bleed tube assembly are replaced with a check valve having either P/N 816603-1 or P/N 816603-2 per paragraph (b) of this AD, repeat the replacement requirements of paragraph (b) of this AD, per EMBRAER Service Bulletin 145-36-0011, Change No. 01, dated March 23, 2000, every 1,600 flight hours, until the requirements of paragraph (e) of this AD are accomplished.

(d) For all airplanes that replace the bleed-air check valves of the right- and left-hand engines with P/N 816603-3 per paragraph (b) of this AD, before further flight, replace the bleed air check valve on the bleed tube assembly of the auxiliary power unit (APU), and rework the flanges of the right- and left-hand engine bleed tube assembly; per EMBRAER Service Bulletin 145-36-0011, Change No. 01, dated March 23, 2000. Accomplishment of these actions constitutes terminating action for the requirements of this AD.

(e) Within 4,000 flight hours after the effective date of this AD, replace any bleed-air check valves having P/N 816603-1 or P/N 816603-2 with bleed-air check valves having P/N 816603-3; and, before further flight, do the actions specified in paragraph (d) of this AD. Replacement of all bleed-air check valves with P/N 816603-3 check valves and accomplishment of the actions specified in paragraph (d) of this AD, constitute terminating action for the requirements of this AD.

Alternative Methods of Compliance

(f) An alternative method of compliance or adjustment of the compliance time that provides an acceptable level of safety may be used if approved by the Manager, Atlanta Aircraft Certification Office, (ACO), FAA. Operators shall submit their requests through an appropriate FAA Principal Maintenance Inspector, who may add comments and then send it to the Manager, Atlanta ACO.

Note 3: Information concerning the existence of approved alternative methods of compliance with this AD, if any, may be obtained from the Atlanta ACO.

Special Flight Permits

(g) Special flight permits may be issued in accordance with sections 21.197 and 21.199 of the Federal Aviation Regulations (14 CFR 21.197 and 21.199) to operate the airplane to a location where the requirements of this AD can be accomplished.

Note 4: The subject of this AD is addressed in Brazilian airworthiness directive 1999-04-01R2, dated May 30, 2000.

Issued in Renton, Washington, on March 13, 2001.
Donald L. Riggin,
Acting Manager, Transport Airplane Directorate, Aircraft Certification Service.

[FR Doc. 01-6793 Filed 3-19-01; 8:45 am]

BILLING CODE 4910-13-U